SMALL BUSINESS ADMINISTRATION

Annual Meeting of the Regional Small Business Regulatory Fairness Boards Office of the National Ombudsman

AGENCY: U.S. Small Business Administration (SBA).

ACTION: Notice of open meeting of the Regional Small Business Regulatory Fairness Boards.

SUMMARY: The SBA, Office of the National Ombudsman is issuing this notice to announce the location, date, time and agenda for the annual board meeting of the ten Regional Small Business Regulatory Fairness Boards (Regional Regulatory Fairness Boards). The meeting is open to the public.

DATES: The meeting will be held on the following dates: Monday, July 16, 2012, from 9 a.m. to 5 p.m. EST and on Tuesday, July 17, 2012, from 9 a.m. to 7 p.m. EST.

ADDRESSES: The meeting will be at The Westin Indianapolis Hotel, 50 South Capital Avenue, Indianapolis, IN 46204, in the Capitol 1 Room located on the Main Lobby area.

SUPPLEMENTARY INFORMATION: Pursuant to the Small Business Regulatory Enforcement Fairness Act (Pub. L. 104-121), Sec. 222, SBA announces the meeting of the Regional Regulatory Fairness Boards. The Regional Regulatory Fairness Boards are tasked to advise the National Ombudsman on matters of concern to small businesses relating to enforcement activities of agencies and to report on substantiated instances of excessive enforcement against small business concerns, including any findings or recommendations of the Board as to agency enforcement practice or policy.

The purpose of the meeting is to discuss the following topics related to the Regional Regulatory Fairness Boards:

—RegFair Board Member Duties, Responsibilities, and Standards of Conducting Briefing.

—Board Relationships with the Field.

—ONO Highlights.

—Planning for and Logistics of Hearings/Roundtables.

—Securing Comments and the Comment Process.

—National Small Business Association (NSBA) Update.

—Introduction of Chief Counsel, Office of Advocacy.

—Introduction of Director of Field Operations.

—Small Businesses: Creating and Contributing to the Future.

—RegFair Board Members Present Examples of Activities in their Regions.

—Federal Agency Partnerships: Existing and Future.

—Introduction and Remarks by SBA Deputy Administrator.

—Presentation of Certificates and Photos.

—Board Member Travel Reimbursement.

—Introduction of SBA Administrator.

—All Participants Join DD Conference.

FOR FURTHER INFORMATION CONTACT: The meeting is open to the public; however advance notice of attendance is requested. Anyone wishing to attend and/or make a presentation to the Regulatory Fairness Boards must contact Yolanda Swift by July 12, 2012, by fax or email in order to be placed on the agenda. Yolanda.swift@sba.gov, Deputy National Ombudsman for Regulatory Enforcement Fairness, Office of the National Ombudsman, 409 3rd Street SW., Suite 7125, Washington, DC 20416, phone (202) 205-6918, fax (202) 401-6128.

Additionally, if you need accommodations because of a disability or require additional information, please contact José Méndez, Case Management Specialist, Office of the National Ombudsman, 409 3rd Street SW., Suite 7125, Washington, DC 20416, phone (202) 205-6178, fax (202) 401-2707, email jose.mendez@sba.gov.

For more information on the Office of the National Ombudsman, please visit our Web site at http://www.sba.gov/ombudsman.

Dated: June 20, 2012.
Dan Jones,
SBA Committee Management Officer.

[FR Doc. 2012-15578 Filed 6-25-12; 8:45 am]

BILLING CODE P